DEPARTMENT OF THE TREASURY

Internal Revenue Service

26 CFR Part 602

[TD 8892]

RIN 1545-AR97

TeleFile Voice Signature Test; Correction

AGENCY: Internal Revenue Service (IRS), Treasury.

ACTION: Correction to removal of temporary regulations.

SUMMARY: This document contains corrections to a removal of temporary regulations that provides that an individual Federal income tax return completed as part of the Telefile Voice Signature test will be treated as a return that is signed, authenticated, verified and filed by the taxpayer. This document was published in the Federal Register on July 18, 2000 (65 FR 44437).

DATES: This correction is effective July 18, 2000.

FOR FURTHER INFORMATION CONTACT: Beverly A. Baughman (202) 622-4940 (not a toll-free number).

SUPPLEMENTARY INFORMATION:

Need for Correction

As published, the removal of temporary regulations (TD 8892) contains errors that may prove to be misleading and is in need of clarification.

Correction of Publication

Accordingly, the publication of the removal of temporary regulations (TD 8892), which is the subject of FR Doc. 00-18116, is corrected as follows:

1. On page 44438, column 1, in amendatory instruction Par. 6., line 1, the language, “Par. 6. Section 602.101(c) is amended” is corrected to read “Par. 6. Section 602.101(b) is amended”.

§ 602.101 [Corrected]

2. On page 44438, column 1, the paragraph designation § 602.101(c) is correctly designated § 602.101(b).

Cynthia Grigsby,
Chief, Regulations Unit, Office of Special Counsel (Modernization and Strategic Planning).

[FR Doc. 00-23918 Filed 9-18-00; 8:45 am]

BILLING CODE 4830-01-U